DEPARTMENT OF ENERGY

Federal Energy Regulatory Commission

[Project No. 12740-008]

Jordan Hydroelectric Limited Partnership; Notice of Availability of Supplemental Environmental Assessment

In accordance with the National Environmental Policy Act of 1969 and the Federal Energy Regulatory Commission's (Commission or FERC) regulations, 18 Code of Federal Regulations (CFR) part 380, Commission staff prepared a Supplemental Environmental Assessment (Supplemental EA), to supplement its Final Environmental Assessment (Final EA), issued November 10, 2011. On March 10, 2021, Jordan Hydroelectric Limited Partnership (licensee), filed with the Commission an application to amend its license for the Flannagan Hydroelectric Project No. 12740 based on the proposed changes to the design of the project. The unconstructed project is located at the U.S. Army Corps of Engineers' John W. Flannagan Dam and Reservoir, which is on the Pound River, near the Town of Clintwood, in Dickenson County, Virginia.

The Supplemental EA was prepared to address changes that have occurred since the issuance of the Final EA and contains Commission staff's analysis of the potential environmental effects of the proposed amendment. Based on staff's independent analysis in the Supplemental EA, Commission approval of the licensee's proposal would not constitute a major federal action significantly affecting the quality of the human environment.

The supplemental EA may be viewed on the Commission's website at http://www.ferc.gov using the “elibrary” link. Enter the docket number (P-12740) in the docket number field to access the document. At this time, the Commission has suspended access to the Commission's Public Reference Room, due to the proclamation declaring a National Emergency concerning the Novel Coronavirus Disease (COVID-19), issued by the President on March 13, 2020. For assistance, contact FERC Online Support at FERCOnlineSupport@ferc.gov or toll-free at 1-866-208-3372, or for TTY, (202) 502-8659.

For further information, contact Marybeth Gay at 202-502-6125 or Marybeth.Gay@ferc.gov.

Dated: January 11, 2022.
Kimberly D. Bose,
Secretary.

[FR Doc. 2022-00815 Filed 1-14-22; 8:45 am]

BILLING CODE 6717-01-P